DEPARTMENT OF THE INTERIOR

National Park Service

[NPS-AKR-WRST-11805; PPAKWRSTS3, PPMRSNR1Z.NU0000]

Wrangell-St. Elias National Park and Preserve, Alaska; Proposed Mining Plan of Operations

AGENCY: National Park Service, Interior.

ACTION: Notice of availability.

SUMMARY: Pursuant to the provisions of Section 2 of the Act of September 28, 1976, 16 U.S.C. 1902, and in accordance with the provisions of 36 C.F.R. 9.17, notice is hereby given that Thomas and Kathryn Lamal have filed a proposed plan of operations to conduct a mining operation on lands embracing the Shamrock (AA026813) and Tony M (AA026810) unpatented placer claims within Wrangell-St. Elias National Park and Preserve.

Public Availability: This plan of operations is available for inspection during normal business hours at the following locations:

Wrangell-St. Elias National Park and Preserve Headquarters, Mile 106.8 Richardson Highway, Post Office Box 439, Copper Center, Alaska 99573.

National Park Service, Alaska Regional Office—Natural Resources Division, 240 West 5th Avenue, Anchorage, Alaska 99501.

FOR FURTHER INFORMATION CONTACT: Rick Obernesser, Superintendent, and Danny Rosenkrans, Senior Management Analyst, Wrangell-St. Elias National Park and Preserve, P.O. Box 439, Copper Center, Alaska 99573; telephone (907) 822-5234.

Dated: February 4, 2013.
Sue E. Masica,
Regional Director, Alaska.

[FR Doc. 2013-04530 Filed 2-26-13; 8:45 am]

BILLING CODE 4312-EF-P